DEPARTMENT OF THE INTERIOR

Fish and Wildlife Service

[FWS-R4-R-2008-N0217; 40136-1265-0000-S3]

Pee Dee National Wildlife Refuge, Anson and Richmond Counties, NC

AGENCY: Fish and Wildlife Service, Interior.

ACTION: Notice of availability: Final comprehensive conservation plan and finding of no significant impact.

SUMMARY: We, the Fish and Wildlife Service (Service), announce the availability of our final comprehensive conservation plan (CCP) and finding of no significant impact (FONSI) for Pee Dee National Wildlife Refuge. In the final CCP, we describe how we will manage this refuge for the next 15 years.

ADDRESSES: A copy of the CCP may be obtained by writing to: Jeffrey Bricken, Refuge Manager, Pee Dee National Wildlife Refuge, 5770 U.S. Highway 52 North, Wadesboro, NC 28170. The CCP may also be accessed and downloaded from the Service's Internet Site: http://southeast.fws.gov/planning.

FOR FURTHER INFORMATION CONTACT: Jeffrey Bricken; telephone: 704/694-4424.

SUPPLEMENTARY INFORMATION:

Introduction

With this notice, we finalize the CCP process for Pee Dee National Wildlife Refuge. We started this process through a notice of intent in the Federal Register on November 7, 2006 (71 FR 65122). For more about the process, see that notice.

Established in 1963, Pee Dee National Wildlife Refuge is located approximately 48 miles east of Charlotte, North Carolina, in Anson and Richmond Counties. The 8,433-acre refuge includes a diversity of habitats consisting of bottomland hardwoods, upland pine forests, croplands, open fields, moist-soil units, and mixed-pine hardwoods. These areas support a variety of wildlife and plant species, including waterfowl and other migratory birds, as well as federal- and state-listed species. Pee Dee National Wildlife Refuge straddles several miles of the Pee Dee River, and contains numerous creeks, lakes, and ponds. In addition, the refuge protects historical and archaeological sites.

We announce our decision and the availability of the final CCP and FONSI for Pee Dee National Wildlife Refuge in accordance with National Environmental Policy Act (NEPA) (40 CFR 1506.6(b)) requirements. We completed a thorough analysis of impacts on the human environment, which we included in the draft comprehensive conservation plan and environmental assessment (Draft CCP/EA).

The CCP will guide us in managing and administering Pee Dee National Wildlife Refuge for the next 15 years. Alternative C, as we described in the final CCP, is the foundation for the CCP.

The compatibility determinations for (1) boating; (2) deer and feral hog hunting; (3) turkey hunting; (4) small game hunting; (5) fishing; (6) wildlife observation and photography; (7) environmental education and interpretation; (8) bicycling and jogging; (9) horseback riding; (10) forest management/timber harvest; and (11) cooperative farming are also available in the CCP.

Background

The National Wildlife Refuge System Improvement Act of 1997 (16 U.S.C. 668dd-668ee) (Improvement Act), which amended the National Wildlife Refuge System Administration Act of 1966, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Improvement Act.

Comments

We solicited comments on the Draft CCP/EA for a 30-day period as announced in the Federal Register on April 22, 2008 (73 FR 21641). All comments were analyzed and changes were made to the CCP where warranted.

Selected Alternative

The Draft CCP/EA identified and evaluated three alternatives for managing the refuge. After considering the comments we received and based on the professional judgment of the planning team, we have selected Alternative C for implementation. Under this alternative, refuge management will focus on maintaining biodiversity, restoring habitats, improving conditions for threatened and endangered species, and increasing public use opportunities.

Authority: This notice is published under the authority of the National Wildlife Refuge System Improvement Act of 1997, Public Law 105-57.

Dated: August 25, 2008.
Cynthia K. Dohner,
Acting Regional Director.

[FR Doc. E8-25778 Filed 10-28-08; 8:45 am]

BILLING CODE 4310-55-P